DEPARTMENT OF THE INTERIOR

Central Utah Project Completion Act

AGENCY: Department of the Interior, Office of the Assistant Secretary—Water and Science.

ACTION: Notice of availability of the Finding of No Significant Impact (FONSI) and associated Final Environmental Assessment (EA)—Realignment of a Portion of the Utah Lake Drainage Basin Water Delivery System.

SUMMARY: On November 15, 2010, the Department of the Interior (Interior), signed a FONSI associated with the Final EA—Realignment of a Portion of the Utah Lake Drainage Basin Water Delivery System. Interior has determined that the proposed action as detailed in the FONSI will not have a significant impact on the quality of the human environment, and that an environmental impact statement is not required.

ADDRESSES: Copies of the EA and FONSI are available for inspection at:

• Central Utah Water Conservancy District, 355 West University Parkway, Orem, Utah 84058-7303.

• Department of the Interior, Central Utah Project Completion Act Office, 302 East 1860 South, Provo, Utah 84606.

The documents are also available at http://www.cuwcd.com and http://www.cupcao.gov.

FOR FURTHER INFORMATION: Contact Mr. Lee Baxter, Central Utah Project Completion Act Office, 302 East 1860 South, Provo, Utah 84606; (801) 379-1174; e-mail at lbaxter@uc.usbr.gov.

Date: November 17, 2010.
Reed R. Murray,
Program Director, Central Utah Project Completion Act, Department of the Interior.

[FR Doc. 2010-29582 Filed 11-23-10; 8:45 am]

BILLING CODE 4310-RK-P